DEPARTMENT OF THE TREASURY

Fiscal Service

31 CFR Part 285

[Docket No. Fiscal-2021-0007]

RIN 1530-AA21

Debt Collection Authorities Under the Debt Collection Improvement Act of 1996; Correction

AGENCY: Bureau of the Fiscal Service, Fiscal Service, Treasury.

ACTION: Final rule; correction.

SUMMARY: The Department of the Treasury (“Treasury”), Bureau of the Fiscal Service (“Fiscal Service”) is correction a final rule that appeared in the Federal Register on August 16, 2022. The document amends the regulations of the Treasury, Fiscal Service, regarding the Treasury Offset Program (“TOP”) and the Cross-Servicing program. The primary reason for amending the regulation is to inform the public about how Fiscal Service will use Social Security numbers in mailings, as required by the Social Security Number Fraud Prevention Act of 2017, which requires Fiscal Service to have final regulations in place by September 15, 2022.

DATES: This correction is effective September 15, 2022.

FOR FURTHER INFORMATION CONTACT: Tawanna Edmonds, Director, Receivables Management & Debt Services Division, Debt Management Services, Bureau of the Fiscal Service at (202) 874-6810.

SUPPLEMENTARY INFORMATION: In FR Doc. 2022-17117 appearing on page 52046 in the Federal Register of Tuesday, August 16, 2022, the following correction is made:

§ 285.12 [Corrected]

1. On page 50249, in the first column, the first line of instruction 7, “Section 285.12(a) is amended by:”, is corrected to read “Section 285.12 is amended by:”

Dated: August 17, 2022.
Lela Anderson,
Attorney-Advisor.

[FR Doc. 2022-18076 Filed 8-22-22; 8:45 am]

BILLING CODE 4810-AS-P